DEPARTMENT OF COMMERCE

International Trade Administration

[A-570-038]

Amorphous Silica Fabric From the People's Republic of China: Rescission of Antidumping Duty Administrative Review; 2019-2020

AGENCY: Enforcement and Compliance, International Trade Administration, Department of Commerce.

SUMMARY: The Department of Commerce (Commerce) is rescinding its administrative review of the antidumping duty order on certain amorphous silica fabric (silica fabric) from the People's Republic of China (China) for the period of review (POR) March 1, 2019 through February 29, 2020.

DATES: Applicable August 5, 2020.

FOR FURTHER INFORMATION CONTACT: Marc Castillo, AD/CVD Operations, Office VI, Enforcement and Compliance, International Trade Administration, U.S. Department of Commerce, 1401 Constitution Avenue NW, Washington, DC 20230; telephone: (202) 482-0519.

SUPPLEMENTARY INFORMATION:

Background

On March 2, 2020, Commerce published in the Federal Register a notice of opportunity to request an administrative review of the antidumping duty order ¹ on amorphous silica fabric from China for the POR.² On March 31, 2020, Commerce received a timely request from Auburn Manufacturing, Inc. (the petitioner), in accordance with section 751(a) of the Tariff Act of 1930, as amended (the Act), and 19 CFR 351.213(b), to conduct an administrative review of the Order for 89 companies.³ On May 6, 2020, Commerce published in the Federal Register a notice of initiation with respect to the 89 companies in the petitioner's administrative review request.⁴ On July 7, 2020, the petitioner timely withdrew its request for an administrative review for all 89 companies.⁵

¹ See Certain Amorphous Silica Fabric from the People's Republic of China: Antidumping Duty Order, 82 FR 14314 (March 17, 2017) (Order).

² See Antidumping or Countervailing Duty Order, Finding, or Suspended Investigation; Opportunity to Request Administrative Review, 85 FR 12267 (March 2, 2020).

³ See Petitioner's Letter, “Certain Amorphous Silica Fabric from the People's Republic of China,” dated March 31, 2020.

⁴ See Initiation of Antidumping and Countervailing Duty Administrative Reviews, 85 FR 26931 (May 6, 2020).

⁵ See Petitioner's Letter, “Amorphous Silica Fabric from the People's Republic of China,” dated July 7, 2020.

Rescission of Administrative Review

Pursuant to 19 CFR 351.213(d)(1), Commerce will rescind an administrative review, in whole or in part, if the party which requested a review withdraws the request within 90 days of the date of publication of the notice of initiation of the requested review. The party which requested an administrative review withdrew its request for review for all companies by the 90-day deadline, and no other party requested an administrative review of this order. Therefore, in accordance with 19 CFR 351.213(d)(1), we are rescinding the administrative review of the antidumping duty order on silica fabric from China covering the period March 1, 2019, through February 29, 2020, in its entirety.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Orders

This notice serves as a final reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with sections 751(a)(1) and 777(i)(1) of the Act, and 19 CFR 351.213(d)(4).

Dated: July 24, 2020.
James Maeder,
Deputy Assistant Secretary for Antidumping and Countervailing Duty Operations.

[FR Doc. 2020-17032 Filed 8-4-20; 8:45 am]

BILLING CODE 3510-DS-P